ENVIRONMENTAL PROTECTION AGENCY

[OECA-2003-0028; FRL-7603-7]

Agency Information Collection Activities; Submission to OMB for Review and Approval; Comment Request; Emission Guidelines for Commercial and Industrial Solid Waste Incineration Units, EPA ICR Number 1927.03, OMB Control Number 2060-0451

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on January 31, 2004. Under OMB regulations, the Agency may continue to conduct or sponsor the collection of information while this submission is pending at OMB. This ICR describes the nature of the information collection and its estimated burden and cost.

DATES: Additional comments may be submitted on or before January 29, 2004.

ADDRESSES: Submit your comments, referencing docket ID number OECA-2003-0028, to (1) EPA online using EDOCKET (our preferred method), by e-mail to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Mail Code 2223A, Office of Compliance, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On May 19, 2003 (68 FR 27059), EPA sought comments on this ICR pursuant to 5 CFR 1320.8(d). No comments were received.

EPA has established a public docket for this ICR under Docket ID Number OECA-2003-0028, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1514. An electronic version of the public docket is available through EPA Dockets (EDOCKET) at http://www.epa.gov/edocket. Use EDOCKET to submit or view public comments, access the index listing of the contents of the public docket, and to access those documents in the public docket that are available electronically. Once in the system, select “search”, then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Emission Guidelines for Commercial and Industrial Solid Waste Incineration Units (40 CFR part 60, subpart DDDD).

Abstract: Emission Guidelines for Commercial and Industrial Solid Waste Incineration (CISWI) Units (40 CFR part 60, subpart DDDD), was promulgated on December 1, 2000. The emission guidelines require a one-time waste management plan, initial performance tests for ten pollutants, annual performance testing for particulate matter (PM), hydrogen chloride (HCl), and opacity, continuous operating parameter monitoring, annual operator training, and annual reporting. A deviation report is required if any of the emission limitations or operating limits are exceeded. The frequency of these activities was chosen by EPA as the period that will provide an adequate margin of assurance that affected facilities will not operate for extended periods in violation of the standards.

The regulation addresses information collection activities imposed by the Commercial and Industrial Solid Waste Incineration (CISWI) Unit Emission Guidelines, subpart DDDD. The guidelines do not apply directly to CISWI unit owners and operators. The guidelines can be thought of as “model regulations” that States use in developing State plans to implement the emission guidelines. If a State does not develop, adopt, and submit an approved State plan, the Environmental Protection Agency (EPA) must develop a Federal plan to implement the emission guidelines. In the event that a State's plan is not approved, then a Federal plan must be developed.

The information will be used by the designated Administrator's enforcement personnel to ensure that the requirements of the State (or Federal) plan are being implemented and are complied with on a continuous basis. Specifically, the information will be used by the designated Administrator to: (1) Identify existing sources subject to the standards; (2) ensure that existing sources have a control plan to achieve compliance by the final compliance date; (3) ensure that subpart DDDD is being properly applied; (4) ensure that the emission standards are being complied with; and (5) ensure, on a continuous basis, that the operating parameters established during the initial stack test are not exceeded.

In addition, records and reports are necessary to enable the Designated Administrator to identify CISWI units that may not be in compliance with the standards. Based on reported information, the designated Administrator can decide which CISWI units should be inspected and what records or processes should be inspected at the CISWI unit. The records that CISWI units maintain would indicate to the designated Administrator whether the personnel are operating and maintaining control equipment properly and whether they have met the qualification requirements. In more than 95 percent of the cases, the enforcement of emission guidelines has been delegated to State air pollution control agencies. In such cases, the reports required by the standards will be submitted to the appropriate State agency, and not directly to the EPA. Thus, there is a minimal possibility for the duplication of information to State agencies and EPA. In those few cases where State agencies have not developed a State plan or requested delegation of the federal plan, Federal enforcement still requires information from the CISWI facility. The plant owner or operator may submit a copy of State or local reports to the Administrator in lieu of the report required by the standards, as specified in the General Provisions of 40 CFR part 60.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 262 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Commercial and Industrial Solid Waste Incineration Units.

Estimated Number of Respondents: 97.

Frequency of Response: Annually, Semi-annual and Initially.

Estimated Total Annual Hour Burden: 72,423 hours.

Estimated Total Annual Cost: $6,021,000, includes $87,000 annualized capital/startup costs, $12,000 annual O&M costs and $5,922,000 annual labor costs.

Changes in the Estimates: There is an increase of 63,278 hours in the total estimated burden currently identified in the OMB Inventory of Approved ICR Burdens. This increase was due to the implementation of the rules. In the active ICR, it was assumed that most of the burdens of the rule in conformity with the initial requirements, will not occur until years four or five of implementation of this rule, therefore, most of the respondent burden for those requirements is included in this renewal package.

There was no capital cost or operational and maintenance costs associated with the emission guidelines in the active ICR, therefore, the respondent burden for the active ICR is minimal, as compared to the renewal ICR.

Dated: December 17, 2003.
Doreen Sterling,
Acting Director, Collection Strategies Division.

[FR Doc. 03-32059 Filed 12-29-03; 8:45 am]

BILLING CODE 6560-50-P